DEPARTMENT OF COMMERCE

National Oceanic and Atmospheric Administration

[Docket No. 040303081-4081-01; I.D. 010904D]

RIN 0648-AR98

2005 Mid-Atlantic Research Set-Aside Program

AGENCY: National Marine Fisheries Service (NMFS), National Oceanic and Atmospheric Administration (NOAA), Commerce.

ACTION: Notice and request for proposals.

SUMMARY: NMFS announces that for fishing year 2005 the Mid-Atlantic Fishery Management Council (Council) may set aside up to 3 percent of the total allowable landings (TAL) in certain Mid-Atlantic fisheries to be used for research endeavors under a research set-aside (RSA) program. The RSA program provides a mechanism to fund research and compensate vessel owners through the sale of fish harvested under the research quota. Vessels participating in an approved research project may be authorized by the Northeast Regional Administrator, NMFS, to harvest and to land species in excess of any imposed trip limit or during fishery closures. Landings from such trips would be sold to generate funds that would help defray the costs associated with research projects. No Federal funds would be provided for research under this notification. NMFS is soliciting proposals for research activities concerning the summer flounder, scup, black sea bass, Loligo squid, Illex squid, Atlantic mackerel, butterfish, bluefish, and tilefish fisheries.

DATES: Proposals must be received by NMFS no later than 5 p.m. EST, April 8, 2004.

ADDRESSES: Proposals must be submitted to NMFS, One Blackburn Drive, Gloucester, MA 01930.

FOR FURTHER INFORMATION CONTACT: For a copy of the full funding opportunity announcement for this request for proposals and/or an application kit contact Paul Perra (see ADDRESSES ), or by phone at 978-281-9153, or fax to 978-281-9135, or via internet at paul.perra@ noaa.gov. The text of the full funding opportunity announcement can also be accessed at NOAA's web site: http://www.ofa.noaa.gov/~amd/SOLINDEX.HTML.

SUPPLEMENTARY INFORMATION: NMFS announces that for fishing year 2005 the Council may set aside up to 3 percent of the TAL in certain Mid-Atlantic fisheries to be used for research endeavors under an RSA program. The RSA program provides a mechanism to fund research and compensate vessel owners through the sale of fish harvested under the research quota. Vessels participating in an approved research project may be authorized by the Northeast Regional Administrator, NMFS, to harvest and to land species in excess of any imposed trip limit or during fishery closures. Landings from such trips would be sold to generate funds that would help defray the costs associated with research projects. No Federal funds would be provided for research under this notification. NMFS is soliciting proposals for research activities concerning the summer flounder, scup, black sea bass, Loligo squid, Illex squid, Atlantic mackerel, butterfish, bluefish, and tilefish fisheries.

Electronic Access: Applicants should read the full text of the funding opportunity announcement for the NMFS program which can be accessed via web site: http://www.ofa.noaa.gov/~amd/SOLINDEX.HTML or by contacting the program official identified above. This announcement will also be available through the Internet at http://www.Grants.gov.

Funding Availability: No Federal funds are provided for research under this notification. The Federal Government may issue an Exempted Fishing Permit or Letter of Acknowledgment, as applicable, which may provide special fishing privileges in response to research proposals selected under this program.

Statutory Authority: Issuing grants is consistent with sections 303(b)(11), 402(e), and 404(c) of the Magnuson-Stevens Fishery Conservation and Management Act, 16 U.S.C. 1853(b)(11), 16 U.S.C. 1881a(e), and 16 U.S.C. 1881c(c), respectively.

CFDA: 11.454, Unallied Management Projects

Eligibility: Eligible applicants are institutions of higher education, hospitals, other nonprofits, commercial organizations, individuals, State, local and Indian tribal governments. Federal agencies or institutions are not eligible to receive Federal assistance under this notice. Also, a person is not eligible to submit an application under this program if he/she is an employee of any Federal agency or a Regional Fishery Management Council. However, Council members who are not Federal employees may submit an application.

Cost Sharing Requirements: None.

Intergovernmental Review: Required, if applicable. Applications under this program are subject to Executive Order 12372, “Intergovernmental Review of Federal Programs”.

Limitation of Liability: In no event will NOAA or the Department of Commerce be responsible for proposal preparation costs if these programs are cancelled because of other agency priorities. Publication of this announcement does not oblige NOAA to award any specific project or to provide special fishing privileges.

National Environmental Policy Act (NEPA): NOAA must analyze the potential environmental impacts, as required by the National Environmental Policy Act (NEPA), for applicant projects or proposals which are seeking NOAA federal assistance opportunities including special fishing privileges. Detailed information on NOAA compliance with NEPA can be found at the following NOAA NEPA website: http://www.nepa.noaa.gov/, including our NOAA Administrative Order 216-6 for NEPA, http://www.nepa.noaa.gov/NAO216—6—TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Evaluation and Selection Procedures: NOAA published its first omnibus notice announcing the availability of grant funds for both projects and fellowships/scholarship/ internships for Fiscal Year 2004 in the Federal Register on June 30, 2003 (68 FR 38678). The evaluation criteria and selection procedures contained in the June 30, 2003 omnibus notice are applicable to this solicitation. For a copy of the June 30, 2003, omnibus notice please go to: http://www/ofa.noaa.gov/~amd/SOLINDEX.HTML.

The Department of Commerce Pre-Award Notification Requirements for Grants and Cooperative Agreements: The Department of Commerce Pre-Award Notification Requirements for Grants and Cooperative Agreements contained in the Federal Register notice of October 1, 2001 (66 FR 49917), as amended by the Federal Register notice published on October 30, 2002 (67 FR 66109), are applicable to this solicitation.

Classification

Paperwork Reduction Act: This document contains collection-of-information requirements subject to the Paperwork Reduction Act (PRA). The use of Standard Forms 424 and 424A,424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/ Regulatory Flexibility Act: Prior notice and an opportunity for public comments are not required by the Administrative Procedure Act or any other law for this notice concerning grants, benefits, and contracts (5 U.S.C. section 553(a)(2)). Because notice and opportunity for comment are not required pursuant to 5 U.S.C. 553 or any other law, the analytical requirements of the Regulatory Flexibility Act (5 U.S.C. section 601 et seq.) are inapplicable. Therefore, a regulatory flexibility analysis has not been prepared.

Dated:March 04, 2004.
William T. Hogarth,
Assistant Administrator for Fisheries, National Marine Fisheries Service.

[FR Doc. 04-5293 Filed 3-8-04; 8:45 am]

BILLING CODE 3510-22-S